DEPARTMENT OF THE INTERIOR

Bureau of Land Management

[CO-921-06-1320-EL; COC 69881]

Notice of Invitation for Coal Exploration License Application, Colorado

AGENCY: Bureau of Land Management, Interior.

ACTION: Notice of Invitation for Coal Exploration License Application, Juniper Coal Company, COC 69881, Colorado.

SUMMARY: Pursuant to the Mineral Leasing Act of February 25, 1920, as amended by section 4 of the Federal Coal Leasing Amendments Act of 1976, 90 Stat. 1083, 30 U.S.C. 201(b), and to Title 43, Code of Federal Regulations, subpart 3410, all interested qualified parties, as provided in 43 CFR 3472.1 are hereby invited to participate with Juniper Coal Company on a pro rata cost sharing basis in a program for the exploration of coal deposits owned by the United States of America containing the following described lands in Routt County, Colorado.

T. 5 N., R. 89 W., 6th P.M.

Sec. 9, lots 5-8, inclusive, 9-13, inclusive;

Sec. 10, lots 5-15, inclusive;

Sec. 11, lots 6, 16, and 17;

Sec. 14, lots 10, and 15-17, inclusive, Tr. 52, lot 10, E½SW¼NW¼, E½W½SW¼NW, E½NW¼SW¼, and E½W½NW¼SW¼;

Sec. 15, lots 1-16, inclusive;

Sec. 16, lots 1-10, inclusive;

Sec. 21, all;

Sec. 22, all;

Sec. 23, all;

Sec. 24, all;

Sec. 25, all;

Sec. 26, all;

Sec. 27, all;

Sec. 28, E½E½;

Sec. 35, NE¼, and E½NW¼;

sec. 36, N½.

The area described contains approximately 7,033.53 acres.

DATES: Written Notice of Intent To Participate in Exploration License COC 69881 should be addressed to the attention of the following persons and must be received by them 30 days after publication of this Notice of Invitation in the Federal Register.

ADDRESSES: Karen Zurek, CO-921, Solid Minerals Staff, Division of Energy, Lands and Minerals, Colorado State Office, Bureau of Land Management, 2850 Youngfield Street, Lakewood, Colorado 80215; and Jerry Nettleton, Environmental Manager, Juniper Coal Company, 29515 Routt County, Rd. #27, Oak Creek, Colorado 80467.

FOR FURTHER INFORMATION CONTACT: Karen Zurek at (303) 239-3795.

SUPPLEMENTARY INFORMATION: The application for coal exploration license is available for public inspection during normal business hours under serial number COC 69881 at the Bureau of Land Management, Colorado State Office, 2850 Youngfield Street, Lakewood, Colorado 80215, and at the Little Snake Field Office, 455 Emerson St., Craig, Colorado 81625. The proposed exploration program is fully described and will be conducted pursuant to an exploration plan to be approved by the Bureau of Land Management. The authority for this notice is 43 CFR 3410.2-1(c)(1).

Dated: April 14, 2006.
Karen Zurek,
Solid Minerals Staff, Division of Energy, Lands and Minerals.

[FR Doc. E6-8090 Filed 5-25-06; 8:45 am]

BILLING CODE 4310-JB-P